DEPARTMENT OF DEFENSE

Department of the Navy

Notice of Availability of Record of Decision for the Gulf of Alaska Navy Training Activities Final Supplemental Environmental Impact Statement/Overseas Environmental Impact Statement

AGENCY: Department of the Navy, DoD.

ACTION: Notice.

SUMMARY: The Department of the Navy (DoN), after carefully weighing the strategic, operational, and environmental consequences of the proposed action, announces its decision to continue military readiness activities as identified in Alternative 1 in the Gulf of Alaska Navy Training Activities Final Supplemental Environmental Impact Statement/Overseas Environmental Impact Statement. This alternative includes one large-scale Carrier Strike Group exercise annually, Anti-Submarine Warfare activities, and the use of active sonar for up to 21 consecutive days between April and October. Implementation of Alternative 1 will enable the DoN to meet current and future training requirements and manage and mitigate environmental impacts.

SUPPLEMENTARY INFORMATION: The complete text of the Record of Decision is available at http://www.GOAEIS.com. Single copies of the Record of Decision are available upon request by contacting: GOA Supplemental EIS/OEIS Project Manager, Naval Facilities Engineering Command Northwest, 1101 Tautog Circle, Suite 203, Silverdale, Washington 98315-1101.

Dated: April 25, 2017.
A.M. Nichols,
Lieutenant Commander, Judge Advocate General's Corps, U.S. Navy, Federal Register Liaison Officer.

[FR Doc. 2017-08606 Filed 4-27-17; 8:45 am]

BILLING CODE 3810-FF-P